DEPARTMENT OF HEALTH AND HUMAN SERVICES

National Institutes of Health

Center for Scientific Review; Cancellation of Meeting

Notice is hereby given of the cancellation of the Center for Scientific Review Special Emphasis Panel, October 04, 2013, 11:00 a.m. to October 04, 2013, 2:00 p.m., Washington Hilton, 1919 Connecticut Avenue NW., Washington, DC 20009, which was published in the Federal Register on September 9, 2013, 78 FR 55087.

The meeting is cancelled due to the reassignment of applications.

Dated: October 29, 2013.
Michelle Trout,
Program Analyst, Office of Federal Advisory Committee Policy.

[FR Doc. 2013-26224 Filed 11-1-13; 8:45 am]

BILLING CODE 4140-01-P